NATIONAL AERONAUTICS AND SPACE ADMINISTRATION

[23-009]

Name of Information Collection: Flight Analog Projects (FAP) Crew Selection Questionnaire

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by March 15, 2023.

ADDRESSES: Written comments and recommendations for this information collection should be sent within 30 days of publication of this notice to www.reginfo.gov/public/do/PRAMain.

Find this particular information collection by selecting “Currently under 30-day Review—Open for Public Comments” or by using the search function.

FOR FURTHER INFORMATION CONTACT: Requests for additional information or copies of the information collection instrument(s) and instructions should be directed to Bill Edwards-Bodmer, NASA Clearance Officer, NASA Headquarters, 300 E Street SW, JF0000, Washington, DC 20546, 757-864-3292, or b.edwards-bodmer@nasa.gov.

SUPPLEMENTARY INFORMATION:

I. Abstract

This site contains a questionnaire to participate as an analog crewmember/experiment subject for Flight Analog Project (FAP) missions such as Human Exploration Research Analog (HERA) analog ground studies sponsored by NASA Human Research Program. The questionnaire is used to screen potential applicants for initial qualifications. In addition, the website describes the FAP facilities and experiments conducted to inform the general public and promote interest in the FAP missions. This site has been in use for several years under the OMB number 2700-0174 and this is a renewal of the existing site/questionnaire per direction established by the OMB processes.

II. Methods of Collection

Public Website, Web Form.

III. Data

Title:

OMB Number: 2700-0174.

Type of Review: Extension.

Affected Public: General Public.

Estimated Annual Number of Activities: 2.

Estimated Number of Respondents per Activity: 80.

Annual Responses: 160.

Estimated Time per Response: 15 minutes.

Estimated Total Annual Burden Hours: 40.

Estimated Total Annual Cost: 20K.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Cheryl Parker,
Federal Register Liaison Officer.

[FR Doc. 2023-02994 Filed 2-10-23; 8:45 am]

BILLING CODE 7510-13-P